DEPARTMENT OF THE TREASURY

Internal Revenue Service

Open Meeting of the Taxpayer Advocacy Panel Joint Committee: Change

AGENCY: Internal Revenue Service (IRS), Treasury.

ACTION: Notice of meeting: change.

SUMMARY: In the Federal Register notice that was originally published on May 4, 2018, the meeting date has changed. The correct date of the meeting is Thursday, May 31, 2018.

DATES: The meeting will be held Thursday, May 31, 2018.

FOR FURTHER INFORMATION CONTACT: Lisa Billups at 1-888-912-1227 or (214) 413-6523.

SUPPLEMENTARY INFORMATION: Notice is hereby given pursuant to Section 10(a)(2) of the Federal Advisory Committee Act, 5 U.S.C. App. (1988) that an open meeting of the Taxpayer Advocacy Panel Joint Committee will be held Thursday, May 31, 2018, at 1:00 p.m. Eastern Time via teleconference. The public is invited to make oral comments or submit written statements for consideration. For more information please contact Lisa Billups at 1-888-912-1227 or (214) 413-6523, or write TAP Office 1114 Commerce Street, Dallas, TX 75242-1021, or post comments to the website: http://www.improveirs.org.

The agenda will include various committee issues for submission to the IRS and other TAP related topics. Public input is welcomed.

Dated: May 10, 2018.
Antoinette Ross,
Acting Director, Taxpayer Advocacy Panel.

[FR Doc. 2018-10481 Filed 5-15-18; 8:45 am]

BILLING CODE 4830-01-P